DEPARTMENT OF ENERGY

Federal Energy Regulatory Commission

[Project No. 15300-001]

BOST1 Hydroelectric LLC; Notice of Surrender of Preliminary Permit

Take notice that BOST1 Hydroelectric LLC., permittee for the proposed Heard County Pumped Storage Project, has requested that its preliminary permit be terminated. The permit was issued on October 19, 2023,¹ and would have expired on September 30, 2027. The project would have been located approximately 1.8 miles west of the City of Enon Grove, Heard County, Georgia.

¹ 185 FERC ¶ 61,041 (2023).

The preliminary permit for Project No. 15300 will remain in effect until the close of business, December 20, 2024. But, if the Commission is closed on this day, then the permit remains in effect until the close of business on the next day in which the Commission is open.² New applications for this site may not be submitted until after the permit surrender is effective.

² 18 CFR 385.2007(a)(2) (2024).

Dated: November 20, 2024.
Debbie-Anne A. Reese,
Secretary.

[FR Doc. 2024-27768 Filed 11-26-24; 8:45 am]

BILLING CODE 6717-01-P